ENVIRONMENTAL PROTECTION AGENCY

[FRL-7578-2]

Agreement for Recovery of Past Response Costs and Covenant Not To Sue Under the Comprehensive Environmental Response, Compensation, and Liability Act Regarding the Universal Oil Products Superfund Site, East Rutherford, NJ

AGENCY: Environmental Protection Agency.

ACTION: Notice of proposed administrative settlement and request for public comment.

SUMMARY: In accordance with Section 122(i) of the Comprehensive Environmental Response, Compensation, and Liability Act of 1980, as amended (“CERCLA”), 42 U.S.C. 9601 et seq., the U.S. Environmental Protection Agency (“EPA”) announces a proposed administrative settlement to resolve claims under CERCLA. This settlement is intended to resolve the liability of responsible parties for certain past response costs incurred by EPA at the Universal Oil Products (Chemical Division) Superfund Site, East Rutherford, New Jersey (“Site”). The proposed administrative settlement is contained in an Agreement for Recovery of Past Response Costs (“Agreement”) between Honeywell International Inc., Honeywell Specialty Materials, LLC (“the Settling Parties”) and EPA. By this Notice, EPA is informing the public of the proposed settlement and of the opportunity to comment.

The soil and groundwater at the approximately 75-acre Site became contaminated with hazardous substances from the operations of a former chemical manufacturing facility. The New Jersey Department of Environmental Protection (NJDEP) is the lead agency responsible for cleanup of the Site, and EPA serves as the support agency. With EPA's concurrence, NJDEP issued a Record of Decision selecting interim soil and groundwater remedies for the Site. The interim soil and groundwater remedies were completed in 2001. Further studies will be required to select a final remedy for the Site.

Section 122(h) of CERCLA authorizes EPA to consider, compromise and settle certain claims incurred by the United States. Under the terms of the Agreement, the Settling Parties will pay a total of $219,491.64 to reimburse EPA for certain response costs incurred at the Site. In exchange, EPA will grant a covenant not to sue or take administrative action against the Settling for reimbursement of past-response costs pursuant to Section 107(a) of CERCLA.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th Floor, New York, New York 10007-1866. Telephone: (212) 637-3111.

DATES: Comments must be provided by November 24, 2003.

ADDRESSES: Comments should be sent to the U.S. Environmental Protection Agency, Office of Regional Counsel, 290 Broadway—17th Floor, New York, NY 10007-1866 and should refer to: Universal Oil Products (Chemical Division) Superfund Site, U.S. EPA Index No. CERCLA-02-2003-2019.

FOR FURTHER INFORMATION CONTACT: U.S. Environmental Protection Agency, Office of Regional Counsel, 290 Broadway—17th Floor, New York, New York 10007-1866. Telephone: (212) 637-3111.

SUPPLEMENTARY INFORMATION: A copy of the proposed administrative settlement may be obtained in person or by mail from John Prince, U.S. Environmental Protection Agency, 290 Broadway—19th Floor, New York, NY 10007-1866. Telephone: (212) 637-4380.

Dated: October 2, 2003.
George Pavlou,
Director, Emergency and Remedial Response Division, Region 2.

[FR Doc. 03-26924 Filed 10-23-03; 8:45 am]

BILLING CODE 6560-50-P